FEDERAL COMMUNICATIONS COMMISSION

[OMB 3060-1003; FR ID 159727]

Information Collection Requirement Being Submitted to the Office of Management and Budget for Emergency Review and Approval

AGENCY: Federal Communications Commission.

ACTION: Notice and request for comments.

SUMMARY: As part of its continuing effort to reduce paperwork burdens, and as required by the Paperwork Reduction Act (PRA) of 1995, the Federal Communications Commission (Commission) invites the general public and other Federal agencies to take this opportunity to comment on the following information collection. Comments are requested concerning: whether the collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The Commission may not conduct or sponsor a collection of information unless it displays a currently valid control number. No person shall be subject to any penalty for failing to comply with a collection of information subject to the PRA that does not display a valid Office of Management and Budget (OMB) control number.

DATES: Written PRA comments should be submitted on or before September 5, 2023.

ADDRESSES: Comments should be sent to http://www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the information collection to Nicole Ongele, FCC, via email to PRA@fcc.gov and to Nicole.Ongele@fcc.gov. Include in the comments the OMB control number as shown in the SUPPLEMENTARY INFORMATION below.

FOR FURTHER INFORMATION CONTACT: For additional information about the information collection, contact Nicole Ongele at (202) 418-2991.

SUPPLEMENTARY INFORMATION: As part of its continuing effort to reduce paperwork burdens, as required by the Paperwork Reduction Act (PRA) of 1995 (44 U.S.C. 3501-3520), the Commission invites the general public and other Federal Agencies to take this opportunity to comment on the following information collection. Comments are requested concerning: (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the Commission seeks specific comment on how it might “further reduce the information collection burden for small business concerns with fewer than 25 employees.”

The Commission is requesting emergency OMB processing of the information collection requirement(s) contained in this notice and has requested OMB approval no later than 32 days after the collection is received at OMB. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of Commission ICRs currently under review appears, look for the Title of this ICR and then click on the ICR Reference Number. A copy of the Commission's submission to OMB will be displayed.

OMB Control Number: 3060-1003.

Title: Communications Disaster Information Reporting System (DIRS).

Form Number: N/A.

Type of Review: Revision of a currently approved collection.

Respondents: Business or other for-profit; Not-for-profit institutions; State, Local or Tribal Government.

Number of Respondents and Responses: 400 respondents, 104,000 responses.

Estimated Time per Response: 1 hour-1.5 hours (average per response).

Frequency of Response: On occasion and Annual Reporting Requirements and Recordkeeping Requirements.

Obligation to Respond: Voluntary. Statutory authority for this collection is contained in sections 1, 4(i), 4(j), 4(o), 251(e)(3), 254, 301, 303(b), 303(g), 303(r), 307, 309(a), 309(j), 316, 332, and 403 of the Communications Act of 1934, as amended, and section 706 of the Telecommunications Act of 1996, 47 U.S.C. 151, 154(i)-(j) & (o), 251(e)(3), 254, 301, 303(b), 303(g), 303(r), 332, 403, and 1302.

Total Annual Burden: 16,320 hours.

Total Annual Cost: No Cost.

Needs and Uses: The Commission launched the Disaster Information Reporting System (DIRS) in 2007 pursuant to its mandate to promote the safety of life and property through the use of wire and radio communication as required by the Communications Act of 1934, as amended. DIRS is a voluntary, efficient, and web-based system that communications companies may use to report their infrastructure status during times of crisis (e.g., related to a disaster). DIRS uses a number of template forms tailored to different communications sectors (i.e., wireless, wireline, broadcast, and cable) to facilitate the entry of this information. To use DIRS, a company first inputs its emergency contact information. After this, they submit information using the template form appropriate for their communications sector. In a Second Report and Order adopted on March 18, 2021, as FCC 21-34, the Commission adopted rules allowing certain federal, state, and Tribal Nation agencies (Participating Agencies) to access to certain geographically relevant reports filed in the Commission's Disaster Information Reporting System (DIRS). The information collections and record keeping provisions adopted will allow Participating Agencies to apply for, and receive access to, DIRS report in the areas where they have jurisdiction. The collection will further enable these Participating Agencies, at their election, to share DIRS reports with qualified local agencies whose jurisdiction is affected by a disaster, while still maintaining the confidentiality of the substantive data. The changes to the data collections fields in the DIRS filings made by service providers will further facilitate the ability of Participating Agencies to access those reports relevant to their specific geographies. Finally, the changes to the information collection and associated recordkeeping requirements, including retention by participating agencies of qualification forms submitted by local agency seeking access to DIRS data, as well as a list of which local agencies receive information from the Participating Agency, training materials setting clear parameters for the use of DIRS data, and a list of those persons granted DIRS account access, will enable auditing functions to ensure accountability in the use of DIRS information and immediate reporting of breaches of access or confidentiality protocols.

The Commission notes that the information sharing framework established in the Second Report and Order allows for access to be granted not only for DIRS, but also to the Commission's Network Outage Reporting System (NORS). We note that the process and requirements for Participating Agencies under this framework is identical, regardless of whether they seek access to NORS, DIRS, or both. Because the Commission anticipates that NORS and DIRS access will be requested together in most cases, it believes that the estimated burden hours and costs for Participating Agencies associated with DIRS access are fully included in the estimates that it has separately submitted as part of its collection on Part 4 of the Commission's Rules Concerning Disruptions to Communications, OMB Control No. 3060-0484. To avoid double-counting the estimated burden hours and costs associated with both collections, the Commission estimates the marginal cost of the Participating Agency aspect of this collection to be zero.

Federal Communications Commission.
Marlene Dortch,
Secretary, Office of the Secretary.

[FR Doc. 2023-16511 Filed 8-2-23; 8:45 am]

BILLING CODE 6712-01-P